DEPARTMENT OF COMMERCE

International Trade Administration

[A-122-850]

Notice of Postponement of Preliminary Antidumping Duty Determination: Live Swine From Canada

AGENCY: Import Administration, International Trade Administration, Department of Commerce.

SUMMARY: The Department of Commerce is postponing the preliminary determination in the antidumping duty investigation on live swine from Canada from August 25, 2004 until no later than October 14, 2004. This extension is made pursuant to section 733(c)(1)(B) of the Tariff Act of 1930, as amended by the Uruguay Round Agreements Act.

EFFECTIVE DATE: August 9, 2004.

FOR FURTHER INFORMATION CONTACT: Cole Kyle at (202) 482-1503 or Andrew Smith at (202) 482-1276, Import Administration, International Trade Administration, U.S. Department of Commerce, 14th Street and Constitution Avenue, NW., Washington, DC 20230.

Postponement of Preliminary Determination

On April 14, 2004, the Department of Commerce (“the Department”) published the initiation of the antidumping duty investigation of imports of live swine from Canada. See Notice of Initiation of Antidumping Investigation: Live Swine from Canada, 69 FR 19815 (April 14, 2004) (“Initiation Notice”). The Initiation Notice stated that we would make our preliminary determination for this antidumping duty investigation no later than August 25, 2004, 140 days after the date on which the Department initiated this investigation.

Pursuant to section 733(c)(1)(B) of the Tariff Act of 1930, as amended by the Uruguay Round Agreements Act (“the Act”), the Department can extend the period for reaching a preliminary determination until no later than the 190th day after the date on which the administrating authority initiates an investigation if:

(B) The administrating authority concludes that the parties concerned are cooperating and determines that

(i) The case is extraordinarily complicated by reason of

(I) The number and complexity of the transactions to be investigated or adjustments to be considered,

(II) The novelty of the issues presented, or

(III) The number of firms whose activities must be investigated, and

(ii) Additional time is necessary to make the preliminary determination.

Regarding the first requirement, we find that all concerned parties are cooperating in this case.

Regarding the second requirement, we find that this case is extraordinarily complicated because of the novelty of the issues presented. First, the product in this investigation, live swine, is inherently unique from the manufactured or processed agricultural products that the Department typically encounters in antidumping duty investigations. Further, the corporate structures and production processes of the respondents involved in this investigation are highly complex in that several of the respondents are affiliated with other live swine producers and are involved in substantial further manufacturing activities in the United States. Accordingly, the Department requires additional time to analyze the questionnaire responses submitted, determine how to proceed with respect to the unique issues presented, and collect additional information concerning these issues before the preliminary determination.

Pursuant to section 733(c)(1)(B) of the Act, we have determined that this case is extraordinarily complicated and that additional time is necessary to make our preliminary determination. Therefore, we are postponing the preliminary determination until no later than October 14, 2004, 190 days after the date on which the Department initiated this investigation, in accordance with section 733(c)(1) of the Act.

This notice is published pursuant to section 733(c)(2) of the Act.

Dated: August 3, 2004.
Jeffrey May,
Deputy Assistant Secretary for Import Administration, Group I.

[FR Doc. 04-18155 Filed 8-6-04; 8:45 am]

BILLING CODE 3510-DS-P